DEPARTMENT OF HOUSING AND URBAN DEVELOPMENT

[Docket No. FR-5756-N-18]

60-Day Notice of Proposed Information Collection: Phase One Letters of Interest for the Homeowners Armed With Knowledge (HAWK) for New Homebuyers (Pilot Program)

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 15, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Phase One Letters of Interest for the Homeowners Armed With Knowledge (HAWK) Pilot for New Homebuyers.

OMB Approval Number: 2502—New.

Type of Request: New.

Form Number: None.

Description of the need for the information and proposed use: The HAWK for New Homebuyers pilot (HAWK Pilot), announced in a separate Federal Register notice will provide FHA insurance pricing incentives to first-time homebuyers who participate in a course of housing counseling and education. The notice also announced the process and criteria for selecting FHA-approved lenders and servicers and HUD-approved housing counseling agencies to participate in Phase One of the HAWK Pilot. Pending this approval, HUD requested that interested parties that meet the selection criteria notify HUD of their interest to participate in the pilot program. Parties must send their letters of interest to Attention: Deputy Assistant Secretary of the Office of Housing Counseling, 451 7th Street SW., Washington, DC 20410, or send electronically to housing.counseling@hud.gov with the subject line reading “HAWK Pilot Phase One” to be considered for participation in Phase One.

The information collected from interested FHA-approved lenders and servicers and HUD-approved housing counseling agencies will be used to select participants for Phase One of the HAWK for New Homebuyers pilot.

Respondents (i.e. affected public): HUD-approved housing counseling agencies and FHA-approved lenders.

Estimated Number of Respondents: 40.

Estimated Number of Responses: 40.

Frequency of Response: Once.

Average Hours per Response: One hour.

Total Estimated Burdens: 20 hours.

Information collection | Number of respondents | Frequency of response | Responses per annum | Burden hour per response | Annual burden hours | Hourly cost per response | Annual cost
Lenders and Servicers | 20 | once | 20 | 1 | 20 | $29 | 580
Housing Counseling Agencies | 20 | once | 20 | 1 | 20 | 29 | 580
Totals | 40 |  | 40 |  | 40 |  | $1,160

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Date: May 12, 2014.
Laura M. Marin,
Associate General Deputy Assistant Secretary for Housing-Associate Deputy Federal Housing Commissioner.

[FR Doc. 2014-11328 Filed 5-15-14; 8:45 am]

BILLING CODE 4210-67-P